DEPARTMENT OF TRANSPORTATION

Federal Aviation Administration

14 CFR Part 71

[Docket No. FAA-2022-0216; Airspace Docket No. 19-AAL-63]

RIN 2120-AA66

Amendment of United States Area Navigation (RNAV) Route T-230; St. Paul Island, AK

AGENCY: Federal Aviation Administration (FAA), DOT.

ACTION: Final rule; correction.

SUMMARY: This action corrects a final rule published by the FAA in the Federal Register on July 17, 2023, that amends United States Area Navigation (RNAV) route T-230 in the vicinity of St. Paul Island, AK, in support of a large and comprehensive T-route modernization project for the state of Alaska. The final rule identified the GARRS, AK, route point as a waypoint (WP), in error. This action makes an editorial correction to the reference of the GARRS, AK, WP to change it to be reflected as a Fix and match the FAA's National Airspace System Resource (NASR) database information.

DATES: Effective date 0901 UTC, October 5, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

History

The FAA published a final rule in the Federal Register (88 FR 45329; July 17, 2023), amending T-230 in support of a large and comprehensive T-route modernization project for the state of Alaska. Subsequent to publication of the final rule, the FAA determined that the GARRS, AK, route point was inadvertently identified as a WP, in error. This rule corrects that error by changing the reference of the GARRS, AK, WP to the GARRS, AK, Fix. This is an editorial change only to match the FAA's NASR database information and does not alter the alignment of the affected T-230 route.

Correction to Final Rule

Accordingly, pursuant to the authority delegated to me, reference to the GARRS, AK, WP that is reflected in Docket No. FAA-2022-0216, as published in the Federal Register of July 17, 2023 (88 FR 45329), FR Doc. 2023-15011, is corrected as follows:

1. In FR Doc. 2023-15011, appearing on page 45330 correct the table for T-230 St. Paul Island, AK (SPY) to King Salmon, AK (AKN) to read:

T-230 St. Paul Island, AK (SPY) to King Salmon, AK (AKN) [Amended]
St. Paul Island, AK (SPY) | NDB/DME | (Lat. 57°09′25.20″ N, long. 170°13′58.77″ W)
GARRS, AK | Fix | (Lat. 58°19′05.80″ N, long. 161°20′31.74″ W)
Salmon, AK (AKN) | VORTAC | (Lat. 58°43′28.97″ N, long. 156°45′08.45″ W)

* * * * *

Issued in Washington, DC, on August 30, 2023.
Karen Chiodini,
Acting Manager, Airspace Rules and Regulations.

[FR Doc. 2023-19095 Filed 9-5-23; 8:45 am]

BILLING CODE 4910-13-P